DEPARTMENT OF TRANSPORTATION

Coast Guard

33 CFR Part 117

[CGD05-01-018]

RIN 2115-AE47

Drawbridge Operation Regulations; Mullica River

AGENCY: Coast Guard, DOT.

ACTION: Notice of temporary deviation from regulations.

SUMMARY: The Commander, Fifth Coast Guard District has approved a temporary deviation from the regulations governing the operation of the Green Bank Drawbridge across the Mullica River, mile 18.0, Green Bank, New Jersey. The bridge owner may close the draw for needed repairs with limited vertical navigation clearance beneath the bridge, starting June 18, 2001, through June 27, 2001, working nights if required. This deviation to the regulation is necessary to allow the contractor to repair the superstructure and the bascule.

DATES: This deviation is effective from June 18, 2001 through June 27, 2001.

FOR FURTHER INFORMATION CONTACT: Ann B. Deaton, Bridge Administrator, Fifth Coast Guard District, Bridge Section at (757) 398-6222.

SUPPLEMENTARY INFORMATION: IEW Construction Group, a contractor for the New Jersey Department of Transportation requested the Coast Guard to approve a temporary deviation from the normal operation of the bridge in order to accommodate repairs. The repairs involve refurbishing the superstructure with extensive repairs to the bascule. Presently, the draw is required to operate under the operating regulations in 33 CFR 117.731a. To facilitate the repair of the bascule span, it will remain in the closed position during the period this deviation is in effect.

In accordance with 33 CFR 117.35, the District Commander granted a temporary deviation from the governing regulations in a letter dated May 17, 2001. A Local Notice to Mariners and a Broadcast Notice were sent out, so marine vessels could arrange their transits to minimize any impacts caused by the temporary deviation.

The temporary deviation allows the Green Bank Drawbridge across the Mullica River, mile 18.0, in Green Bank, New Jersey to remain closed for 10 consecutive days beginning June 18, 2001 through June 27, 2001.

Dated: June 11, 2001.
John E. Shkor,
Vice Admiral, U.S. Coast Guard, Commander, Fifth Coast Guard District.

[FR Doc. 01-15659 Filed 6-21-01; 8:45 am]

BILLING CODE 4910-15-P